DEPARTMENT OF AGRICULTURE

National Agricultural Statistics Service

Notice of Intent To Seek Approval To Conduct an Information Collection

AGENCY: National Agricultural Statistics Service, USDA.

ACTION: Notice and request for comments.

SUMMARY: In accordance with the Paperwork Reduction Act of 1995 (Pub. L. 104-113) and Office of Management and Budget regulations at 5 CFR part 1320 (60 FR 44978, August 29, 1995), this notice announces the intention of the National Agricultural Statistics Service (NASS) to request approval to conduct a new information collection, the Distillers Grains Survey.

DATES: Comments on this notice must be received by April 7, 2006 to be assured of consideration.

ADDRESSES: Comments may be mailed to Ginny McBride, NASS Clearance Officer, U.S. Department of Agriculture, Room 5336 South Building, 1400 Independence Avenue SW., Washington, DC 20250 or sent electronically to gmcbride@nass.usda.gov.

FOR FURTHER INFORMATION CONTACT: Joseph T. Reilly, Associate Administrator, National Agricultural Statistics Service, U.S. Department of Agriculture, (202) 720-4333.

SUPPLEMENTARY INFORMATION: Title: Distillers Grains Survey.

Type of Request: Intent to Seek Approval to Conduct a New Information Collection.

Abstract: The primary objective of the National Agricultural Statistics Service is to prepare and issue State and national estimates of crop and livestock production, prices, and disposition. The goal of this NASS project is to conduct a large-scale survey to measure livestock producers' use of distillers grains, which are nutritional by-products of ethyl alcohol (ethanol) production.

President Bush has encouraged increases in energy production so America will be less dependent on foreign oil. U.S. production of ethanol is a part of that energy strategy and recent passage of the Renewable Fuels Standard by Congress strengthens the ethanol industry's continued expansion. As more ethanol is produced, there is also more of an important by-product of the corn ethanol dry mill process: distillers grains. These distillers grains contain valuable protein, fiber, vitamins, and minerals and can be utilized as quality livestock feed. Secretary of Agriculture Johanns, then Governor of Nebraska, said in July 2002, “We must develop other markets for ethanol and its by-products. As all ethanol producers can tell you, markets for the by-products help make the plant profitable.” Distillers grains are now sold mainly to livestock operations in the immediate vicinity of ethanol plants. Marketing of the increasingly large volume of distillers grains to more livestock producers at higher feed ratios would generate more sales, contributing to plant stability and profitability.

Three small-scale studies of distillers grains were conducted in 2003 by the Iowa Department of Agriculture and Land Stewardship in partnership with the USDA/Federal-State Market Improvement Program. A status and assessment survey was conducted for each segment of the industry—ethanol producers, feed companies and marketers, and livestock feeders—to obtain data such as operation profiles, types and quantities of distillers grains, product qualities, volume of sales, pricing, storage facilities, marketing channels, plant services, transportation requirements, species fed, and feed ratios. In its summary report, which was disseminated at conferences and workshops, the Iowa Department of Agriculture and Land Stewardship noted that ethanol plants “must be able to sell their distillers grains, not just dispose of them * * *. It is an excellent product and more livestock feeders must be educated about its benefits and encouraged to make it a vital and substantial part of their feeding rations.” To facilitate the marketing of distillers grains locally, regionally, and globally, the Department concluded that: (1) The nation's livestock feeders must be surveyed and tracked; different surveys should be administered to target feeders in States with the largest concentrations of specific species. (2) Any barriers to usage must be addressed. (3) The customer base must be expanded and the feed usage raised. (4) Distillers grains promotions and education must be greatly expanded to match the increased levels of distillers grains being produced.

NASS will collaborate with Nebraska Corn Development's Utilization & Marketing Board, an agency of the State of Nebraska, to conduct a survey of livestock producers in 12 Midwestern States in early 2007. The survey will contact livestock operations to determine the extent of feeding of ethanol by-products, any factors preventing the use of distillers grains in feed rations, and aspects on which producers base their decisions regarding livestock feed, such as nutrient values, product consistency, product form, product testing, inclusion rates, economics, shelf life, storage, and transportation. The probability-based survey will include beef (cow/calf and feedlot), dairy, and swine species with targeted size-of-operation criteria. Due to the complex structure of the poultry industry and limited resources available for this survey, poultry will not be studied. The survey will be conducted in Illinois, Indiana, Iowa, Kansas, Michigan, Minnesota, Missouri, Nebraska, North Dakota, Ohio, South Dakota, and Wisconsin. The survey reference date will be the calendar year 2006. Approximately 9,400 operations will be contacted by mail about February 1, 2007, with a second mailing and telephone follow-up later in the month. The National Agricultural Statistics Service will publish summaries in June 2007 at the regional level, combining all States surveyed for each livestock species. Most of the figures will be proportions or percentages which will allow statistical comparisons among operations not feeding distillers grains.

These data will be collected under the authority of 7 U.S.C. 2204(a). Individually identifiable data collected under this authority are governed by Section 1770 of the Food Security Act of 1985, 7 U.S.C. 2276, which requires USDA to afford strict confidentiality to non-aggregated data provided by respondents.

Estimate of Burden: Public reporting burden for this collection of information is estimated to average 20 minutes per response.

Respondents: Farm operators.

Estimated Number of Respondents: 9,400.

Estimated Total Annual Burden on Respondents: 3,200 hours.

Copies of this information collection and related instructions can be obtained without charge from Ginny McBride, NASS Clearance Officer, at (202) 720-5778.

Comments: Comments are invited on: (a) Whether the proposed collection of information is necessary for the proper performance of the functions of the agency, including whether the information will have practical utility; (b) The accuracy of the agency's estimate of the burden of the proposed collection of information including the validity of the methodology and assumptions used; (c) Ways to enhance the quality, utility, and clarity of the information to be collected; and (d) Ways to minimize the burden of the collection of information on those who are to respond, including through the use of appropriate automated, electronic, mechanical, or other technological collection techniques or other forms of information technology.

All responses to this notice will become a matter of public record and be summarized in the request for OMB approval.

Signed at Washington, DC, January 19, 2006.
Joseph T. Reilly,
Associate Administrator.

[FR Doc. E6-1530 Filed 2-3-06; 8:45 am]

BILLING CODE 3410-20-P